EQUAL EMPLOYMENT OPPORTUNITY COMMISSION

Agency Information Collection Activities: Submission for OMB Review; Final Comment Request

AGENCY: Equal Employment Opportunity Commission.

ACTION: Final notice of submission for OMB review; State and Local Government Information (EEO-4)

SUMMARY: In accordance with the Paperwork Reduction Act of 1995, the Equal Employment Opportunity Commission (EEOC) announces that it is submitting to the Office of Management and Budget (OMB) a request for a one-year extension of the existing collection as described below. A notice that the EEOC would be submitting this request was published in the Federal Register on June 20, 2003, allowing for a 60-day public comment period. One comment was received.

DATES: Written comments on this notice must be submitted on or before October 16, 2003.

ADDRESSES: Comments should be submitted to Karen Lee, Policy Analyst, Office of Information and Regulatory Affairs, Office of Management and Budget, 725 17th Street, NW., Washington, DC 20503, or e-mail at KFLEE@OMB.EOP.GOV. Comments may also be sent to Frances M. Hart, Executive Officer, Executive Secretariat, Equal Employment Opportunity Commission, 10th floor, 1801 L Street, NW., Washington, DC 20507. As a convenience to commentators, the Executive Secretariat will accept comments transmitted by facsimile (“FAX”) machine. The telephone number of the FAX receiver is (202) 663-4114. (This is not a toll-free number.) Only comments of six or fewer pages will be accepted via FAX transmittal. This limitation is necessary to assure access to the equipment. Receipt of FAX transmittal will not be acknowledged, except that the sender may request confirmation of receipt by calling the Executive Secretariat staff at (202) 663-4470 (voice) or (202) 663-4074 (TDD). (These are not toll-free telephone numbers.) Copies of comments submitted by the public will be available for review at the Commission's library, Room 6502, 1801 L Street, NW., Washington, DC 20507 between the hours of 9:30 a.m. and 5 p.m.

FOR FURTHER INFORMATION CONTACT: Joachim Neckere, Director, Program Research and Surveys Division, 1801 L Street, NW., Room 9222, Washington, DC 20507: (202) 663-4958 (voice) or (202) 663-7063 (TDD).

SUPPLEMENTARY INFORMATION: The Commission solicits public comment to enable it to:

(1) Evaluate whether the proposed collection of information is necessary for the proper performance of the Commission's functions, including whether the information will have practical utility;

(2) Evaluate the accuracy of the Commission's estimate of the burden of the proposed collection of information, including the validity of the methodology and assumptions used;

(3) Enhance the quality, utility, and clarity of the information to be collected; and

(4) Minimize the burden of the collection of information on those who are to respond, including the use of appropriate automated, electronic, mechanical, or other technological collection techniques or other forms of information technology, e.g., permitting electronic submission of responses.

One comment was received from a software development company in response to the June 20, 2003 notice. The comment supported the EEOC's request for a one-year extension of the current information collection.

Overview of This Information Collection

Collection Title: State and Local Government Information (EEO-4).

OMB Number: OMB Number 3046-0008.

Frequency of Report: Biennial.

Type of Respondent: State and local government jurisdictions with 100 or more full-time employees.

Description of Affected Public: State and local governments excluding elementary and secondary public school districts.

Number of responses: 10,000.

Reporting Hours: 40,000.

Cost to respondents: $600,000.

Federal Cost: $47,000 (annualized).

Number of Forms: 1.

Abstract: Section 709(c) of Title VII of the Civil Rights Act of 1964, as amended, 42 U.S.C. 2000e-8(c), requires employers to make and keep records relevant to a determination of whether unlawful employment practices have been or are being committed and to make reports therefrom as required by the EEOC. Accordingly, the EEOC has issued regulations set forth in Title 29, chapter XIV, subpart 1, § 1602.30. State and local governments with 100 or more full-time employees have been required to submit EEO-4 reports since 1973 (biennially in odd-numbered years since 1993). The individual reports are confidential.

EEO-4 data are used by EEOC to investigate charges of employment discrimination against state and local governments and to provide information on the employment status of minorities and women. The data are shared with several other Federal government agencies. Pursuant to section 709(d) of Title VII of the Civil Rights Act of 1964, as amended, EEO-4 data are also shared with 86 State and Local Fair Employment Practices Agencies (FEPAs). Aggregated data are also used by researchers and the general public.

Burden Statement: The estimated number of respondents included in the EEO-4 survey is 5,000 state and local governments. The estimated number of responses per respondent is approximately two (2) reports. The annual number of responses is approximately 10,000 reports and the total annual burden is 40,000 hours. In order to help reduce survey burden, respondents are encouraged to report data on electronic media as much as possible.

Dated: September 8, 2003.
For the Commission.
Cari M. Dominguez,
Chair.

[FR Doc. 03-23518 Filed 9-15-03; 8:45 am]

BILLING CODE 6570-01-M